DEPARTMENT OF COMMERCE

International Trade Administration

[A-580-809]

Circular Welded Non-Alloy Steel Pipe From Korea: Rescission of Antidumping Duty Administrative Review

AGENCY: Import Administration, International Trade Administration, Department of Commerce.

ACTION: Notice of rescission of administrative review.

SUMMARY: In response to requests from interested parties, the Department of Commerce initiated an administrative review of the antidumping duty order on circular welded non-alloy steel pipe from Korea. Based on requests from interested parties for withdrawal of the review with respect to all respondents, we are rescinding the administrative review.

EFFECTIVE DATE: May 11, 2004.

FOR FURTHER INFORMATION CONTACT: Scott Holland or Julie Santoboni, Office 1, AD/CVD Enforcement, Import Administration, International Trade Administration, U.S. Department of Commerce, 14th Street and Constitution Avenue, NW., Washington DC 20230; telephone (202) 482-1279 or (202) 482-4194, respectively.

SUPPLEMENTARY INFORMATION:

Background

On November 3, 2003, the Department of Commerce (“the Department”) published a notice in the Federal Register of the opportunity for interested parties to request an administrative review of the antidumping duty order on circular welded non-alloy steel pipe from Korea. See Notice of Opportunity to Request Administrative Review of Antidumping or Countervailing Duty Order, Finding or Suspended Investigation, 68 FR 62279 (November 3, 2003). On November 26, 2003, the Department received a timely request for review of Husteel Co. Ltd. (“Husteel”), Hyundai HYSCO (“HYSCO”), and SeAH Steel Corporation, Ltd. (“SeAH”) (collectively, “respondents”) from Allied Tube and Conduit Corporation and Wheatland Tube Company (collectively, “domestic interested parties”). We also received timely filed requests for review from Husteel, HYSCO, and SeAH.

In accordance with 19 CFR 351.221(b)(1), we published a notice of initiation of the antidumping duty administrative review on December 24, 2003, with respect to the respondents. See Notice of Initiation of Antidumping and Countervailing Duty Administrative Reviews, 68 FR 74550 (December 24, 2003). The period of review is November 1, 2002, through October 31, 2003.

On April 9, 2004, the domestic interested parties withdrew their request for review of all three respondents. HYSCO withdrew its request for review on April 21, 2004. Husteel and SeAH withdrew their requests for review on April 23, 2004.

Rescission of Antidumping Administrative Review

In accordance with 19 CFR 351.213(d)(1), the Department will rescind an administrative review if a party that requested the review withdraws the request within 90 days of the date of publication of the notice of initiation of the requested review. The Department may extend this time limit if it decides it is reasonable to do so. Although the domestic interested parties and the respondents submitted requests for withdrawal of this administrative review subsequent to the 90 day deadline, i.e., March 23, 2004, because all parties withdrew their requests for an administrative review, we are hereby rescinding this administrative review.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i).

The Department will issue appropriate assessment instructions directly to CBP within 15 days of publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Act, as amended and 19 CFR 351.213(d)(4).

Dated: May 4, 2004.
James J. Jochum,
Assistant Secretary for Import Administration.

[FR Doc. E4-1072 Filed 5-10-04; 8:45 am]

BILLING CODE 3510-DS-P